SECURITIES AND EXCHANGE COMMISSION

[Release No. 34-100234; File No. SR-NASDAQ-2023-035]

Self-Regulatory Organizations; The Nasdaq Stock Market LLC; Notice of Withdrawal of a Proposed Rule Change To List and Trade Shares of the Hashdex Nasdaq Ethereum ETF Under Nasdaq Rule 5711(i) (Trust Units)

May 28, 2024.

On September 20, 2023, The Nasdaq Stock Market LLC (“Nasdaq” or “Exchange”) filed with the Securities and Exchange Commission (“Commission”), pursuant to Section 19(b)(1) of the Securities Exchange Act of 1934 (“Act”) ¹ and Rule 19b-4 thereunder,² a proposed rule change to list and trade shares of the Hashdex Nasdaq Ethereum ETF under Nasdaq Rule 5711(i) (Trust Units). The proposed rule change was published for comment in the Federal Register on October 3, 2023.³

¹ 15 U.S.C. 78s(b)(1).

² 17 CFR 240.19b-4.

³ See Securities Exchange Act Release No. 98563 (Sept. 27, 2023), 88 FR 68214. Comments on the proposed rule change are available at: https://www.sec.gov/comments/sr-nasdaq-2023-035/srnasdaq2023035.htm.

On November 15, 2023, pursuant to Section 19(b)(2) of the Act,⁴ the Commission designated a longer period within which to approve the proposed rule change, disapprove the proposed rule change, or institute proceedings to determine whether to disapprove the proposed rule change.⁵ On December 18, 2023, the Commission instituted proceedings under Section 19(b)(2)(B) of the Act ⁶ to determine whether to approve or disapprove the proposed rule change.⁷ On March 19, 2024, the Commission designated a longer period for Commission action on the proposed rule change.⁸

⁴ 15 U.S.C. 78s(b)(2).

⁵ See Securities Exchange Act Release No. 98948, 88 FR 81156 (Nov. 21, 2023).

⁶ 15 U.S.C. 78s(b)(2)(B).

⁷ See Securities Exchange Act Release No. 99200, 88 FR 88687 (Dec. 22, 2023).

⁸ See Securities Exchange Act Release No. 99771, 89 FR 20734 (Mar. 25, 2024).

On May 24, 2024, the Exchange withdrew the proposed rule change (File No. SR-NASDAQ-2023-035).

⁹ 17 CFR 200.30-3(a)(12).

For the Commission, by the Division of Trading and Markets, pursuant to delegated authority.⁹
Sherry R. Haywood,
Assistant Secretary.

[FR Doc. 2024-12043 Filed 5-31-24; 8:45 am]

BILLING CODE 8011-01-P